DEPARTMENT OF HOMELAND SECURITY

Coast Guard

[Docket No. USCG-2020-0318]

Gulf of Mexico Area Maritime Security Advisory Committee (AMSC)

AGENCY: Coast Guard, DHS.

ACTION: Solicitation for membership.

SUMMARY: This notice requests individuals interested in serving on the Gulf of Mexico Area Maritime Security Advisory Committee (AMSC) submit their applications for membership to the Federal Maritime Security Coordinator (FMSC) Eighth Coast Guard District. The Committee assists the FMSC, Eighth District, in developing, reviewing, and updating the Area Maritime Security Plan for their area of responsibility.

DATES: Requests for membership should reach the U.S. Coast Guard FMSC Eighth Coast Guard District on September 18, 2020.

ADDRESSES: Applications for membership should be submitted to the FMSC at the following address: Commander, Eighth Coast Guard District, Attn: Mr. Nick Parham, Gulf Mexico AMSC Executive Secretary, Hale Boggs Federal Building, 500 Poydras St., Suite 1341, New Orleans, LA 70130.

FOR FURTHER INFORMATION CONTACT: For questions about submitting an application or about the AMSC in general, contact Mr. Nick Parham, Gulf of Mexico AMSC Executive Secretary, Phone: (504) 671-2044.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C. 70112; 33 CFR 1.05-1, 6.01; Department of Homeland Security Delegation No. 0170.1). The MTSA includes a provision exempting these AMSCs from the Federal Advisory Committee Act (FACA), Public Law 92-436, 86 Stat. 470 (5 U.S.C. App.2).

Gulf of Mexico AMSC Mission

The AMSCs shall assist the Federal Maritime Security Coordinator in the development, review, update, and exercising of the AMS Plan for their area of responsibility. Such matters may include, but are not limited to: Identifying critical port infrastructure and operations; Identifying risks (threats, vulnerabilities, and consequences); Determining mitigation strategies and implementation methods; Developing strategies to facilitate the recovery of the MTS after a Transportation Security Incident; Developing and describing the process to continually evaluate overall port security by considering consequences and vulnerabilities, how they may change over time, and what additional mitigation strategies can be applied; and Providing advice to, and assisting the Federal Maritime Security Coordinator in developing and maintaining the Area Maritime Security Plan.

The Gulf of Mexico Area Maritime Security Committee was chartered by the Commander, Eighth Coast Guard District to study and consider issues related to security in the Gulf of Mexico, in addition to reviewing the proposed Area Maritime Security Plan and serving as a link to communicating threats to waterway users in the Gulf of Mexico and identifying and quantifying those threats. It serves to protect the Gulf of Mexico through improved security procedures and communication and as a forum to coordinate security procedures to decrease the vulnerability of resources in the Gulf of Mexico. It shall serve as an interface between regulators and industry and will assist governmental agencies to implement policies and procedures to improve security in the Gulf of Mexico. Details regarding the specific objectives of the Gulf Area Maritime Security Committee can be found in the charter.

AMSC Composition

The composition of an AMSC, to include the Gulf of Mexico AMSC, is prescribed under 33 CFR 103.305. Pursuant to that regulation, members may be selected from the Federal, Territorial, or Tribal government; the State government and political subdivisions of the State; local public safety, crisis management, and emergency response agencies; law enforcement and security organizations; maritime industry, including labor; other port stakeholders having a special competence in maritime security; and port stakeholders affected by security practices and policies. Members of the AMSC should have at least five years of experience related to maritime or port security operations.

AMSC Membership

The Gulf of Mexico AMSC has seven members. We are seeking to fill two vacancies with this solicitation:

Vice-Chairperson: The Vice Chairperson will act as Chairperson in the absence or incapacity of the Chairperson, or in the event of a vacancy in the office of the Chairperson. The ideal candidate for this position will have more than ten years of experience in security and/or emergency operations management with a significant amount of time spent working in the Gulf of Mexico or similar operational environments.

Co-Chairperson (Planning and Exercises Subcommittee): This subcommittee assists in the management of the Area Maritime Security Training and Exercise Program requirements. They will collaborate on the needed type and scope of the required annual exercises, and support the Homeland Security Exercise and Evaluation Program (HSEEP). This sub-committee also provides vetting for the development, revision, and approval of revisions of the Gulf of Mexico Area Maritime Security Plan. The ideal candidate for this position will have more than ten years of experience in emergency management planning for a maritime company or energy exploration and production company working in the Gulf of Mexico or similar operating environment.

Applicants may be required to pass an appropriate security background check prior to appointment to the committee. Members' terms of office will be for five years; however, a member is eligible to serve additional terms of office. Members will not receive any salary or other compensation for their service on an AMSC. In support of the USCG policy on gender and ethnic diversity, we encourage qualified women and members of minority groups to apply.

D. Request for Applications

Those seeking membership are not required to submit formal applications to the local FMSC; however, because we do have an obligation to ensure that a specific number of members have the prerequisite maritime security experience, we encourage the submission of resumes highlighting experience in the maritime and security industries.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

Dated: August 3, 2020.
John P. Nadeau,
Rear Admiral, U.S. Coast Guard, Federal Maritime Security Coordinator—Gulf of Mexico.

[FR Doc. 2020-18105 Filed 8-18-20; 8:45 am]

BILLING CODE 9110-04-P